DEPARTMENT OF AGRICULTURE

Submission for OMB Review; Comment Request

July 20, 2005.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Farm Service Agency

Title: Standard Operating Agreement Governing Intermodal Transportation.

OMB Control Number: 0560-0194.

Summary of Collection: The 49 U.S.C. authorizes the Kansas City Commodity Office, Export Operations Division (KCCO/EOD) to collect information to determine the eligibility of Intermodal Marketing Companies (IMC) to haul agricultural products for the USDA Farm Service Agency (FSA). CCC, through the KCCO, solicit bids from transportation companies for the purpose of providing intermodal transportation of agricultural commodities. IMCs provide rail trailer-on-flatcar/container-on-flatcar service that CCC hires to provide program transportation needs. Those IMC's who choose to do business with KCCO Export Operations Divisions are required to complete and submit the KC-9, Standard Operating Agreement Governing Intermodal Transportation.

Need and Use of the Information: FSA will collect information by mail, fax or electronic to establish the Trailer on Flatcar/Container on Flatcar (TOFC/COFC) service needs of the Department of Agriculture, Farm Service Agency, the Kansas City Commodity Office, operating as Commodity Credit Corporation, for the movement of its freight, and to insure that an IMC arranging for the transportation service has both the willingness and the capability to meet those needs. Without this information, FSA and KCCO could not meet program requirements.

Description of Respondents: Business or other for-profit; Federal Government; not-for-profit institutions; State, local or tribal government.

Number of Respondents: 22.

Frequency of Responses: Reporting: other (once).

Total Burden Hours: 22.

Ruth Brown,
Departmental Information Collection Clearance Officer.

[FR Doc. 05-14595 Filed 7-22-05; 8:45 am]

BILLING CODE 3410-05-M